DEPARTMENT OF THE INTERIOR

Bureau of Land Management

[A2407-014-004-065516, #O2509-014-004-125222; LLAZP040000]

Notice of Intent To Amend the Resource Management Plan for the Sonoran Desert National Monument, Arizona, and Prepare an Associated Environmental Assessment

AGENCY: Bureau of Land Management, Interior.

ACTION: Notice of intent.

SUMMARY: In compliance with the National Environmental Policy Act of 1969, as amended (NEPA), and the Federal Land Policy and Management Act of 1976, as amended, the Bureau of Land Management (BLM) Arizona State Director intends to prepare a Resource Management Plan (RMP) Amendment with an associated environmental assessment (EA) concerning recreational target shooting for the Sonoran Desert National Monument (SDNM). By this notice the BLM is announcing the beginning of the scoping period to solicit public comments and identify issues and is providing the planning criteria for public review.

DATES: The BLM requests that the public submit comments concerning the scope of the analysis, potential alternatives, planning criteria, and identification of relevant information, and studies by March 30, 2026. To afford the BLM the opportunity to consider issues, please ensure your comments are received prior to the close of the 30-day scoping period.

ADDRESSES: You may submit comments on issues and planning criteria related to the SDNM RMP amendment and EA addressing recreational target shooting availability in the monument by any of the following methods:

• Website: https://eplanning.blm.gov/eplanning-ui/project/2039927/510.

• Email: BLM_AZ_SDNMtargetshooting@blm.gov.

• Mail: BLM Sonoran Desert National Monument, Attn.: RMP Amendment, 2020 E Bell Road, Phoenix, AZ 85022.

Documents pertinent to this proposal may be examined online at https://eplanning.blm.gov/eplanning-ui/project/2039927/510 and at the Phoenix District Office, 2020 East Bell Road, Phoenix, Arizona 85022.

FOR FURTHER INFORMATION CONTACT: Terrance Scott, Lower Sonoran Field Manager, telephone 602-867-5400; address 2020 East Bell Road, Phoenix, Arizona 85022; email tscott@blm.gov. Contact Mr. Scott to have your name added to our mailing list. Individuals in the United States who are deaf, deafblind, hard of hearing, or have a speech disability may dial 711 (TTY, TDD, or TeleBraille) to access telecommunications relay services for contacting Mr. Scott. Individuals outside the United States should use the relay services offered within their country to make international calls to the point of contact in the United States.

SUPPLEMENTARY INFORMATION: This document provides notice that the BLM Arizona State Director intends to prepare and consider an RMP amendment with an associated EA for recreational target shooting availability in the SDNM, announces the beginning of the scoping process, and seeks public input on issues, preliminary alternatives, and planning criteria. The RMP amendment would change the dispersed recreational shooting allocations in the existing approved RMP amendment for the SDNM, as amended. Pursuant to the last RMP amendment, which occurred in 2024, dispersed recreational shooting is currently allowed on approximately 5,295 acres of the monument and is prohibited on approximately 480,496 acres of the monument.

The planning area is located in Maricopa and Pinal counties, Arizona, and encompasses approximately 486,400 acres of public land.

The scope of this land use planning process does not include addressing the evaluation or designation of Areas of Critical Environmental Concern (ACECs), and the BLM is not considering ACEC nominations as part of this process.

Purpose and Need

The purpose of the planning process is to consider allocations and management guidance concerning dispersed recreational shooting on public land within the SDNM, consistent with the SDNM proclamation (January 17, 2001) and other resource decisions in the 2012 SDNM Record of Decision and Approved RMP, as amended. The planning effort will review recreational shooting allocations following policy changes identified in Section 2(b) of Executive Order 14313, “Establishing the President's Make America Beautiful Again Commission,” which directed Federal land management agencies to “expand access to public lands and waters for recreation, hunting, and fishing.”

Preliminary Alternatives

The RMP amendment process will consider whether and where recreational target shooting should be allowed in the SDNM, along with any associated management actions. Preliminary alternatives include the No Action alternative, which reflects the 2024 Decision Record and Approved RMP Amendment that identified approximately 5,295 acres of public land as available for dispersed recreational target shooting along with a monitoring and mitigation protocol to avoid or minimize impacts on monument objects while increasing public safety. The BLM welcomes comments on the preliminary No Action alternative as well as suggestions for additional alternatives.

Planning Criteria

The planning criteria guide the planning effort and lay the groundwork for effects analysis by identifying the preliminary issues and their analytical frameworks.

Preliminary issues for the planning area have been identified by BLM personnel and from early engagement conducted for this planning effort with Federal, State, and local agencies; Tribes; and other stakeholders. The BLM has identified four preliminary issues for this planning effort's analysis: (1) impacts on monument objects from recreational target shooting, (2) effectiveness of the mitigation and monitoring protocol in protecting monument objects, (3) public health and safety, and (4) impacts to recreational target shooting availability. The planning criteria are available for public review and comment at the National NEPA Register project website (see ADDRESSES).

Public Scoping Process

This notice of intent initiates the scoping period and public review of the planning criteria, which guide the development and analysis of the RMP amendment and EA.

The BLM does not intend to hold any public meetings, in-person or virtual, during the public scoping period. Should the BLM later determine to hold public meetings, the specific date(s) and location(s) of any meeting will be announced at least 15 days in advance through news release, social media, on the BLM National NEPA Register project web page and the BLM.gov website. You may submit comments to the BLM using one of the methods listed in the ADDRESSES section previously.

EXPLORE Act and Dingell Act Recreational Target Shooting Closures

If the BLM proposes recreational shooting closures as part of the RMP amendment process, it will comply with the requirements of Section 4103 of the John D. Dingell, Jr. Conservation, Management, and Recreation Act of 2019 (16 U.S.C. 7913) and Section 123 of the Expanding Public Lands Outdoor Recreation Experiences (EXPLORE) Act (16 U.S.C. 8423).

Interdisciplinary Team

The BLM will use an interdisciplinary approach to develop the RMP amendment to consider the variety of resource issues and concerns identified. Specialists with expertise in various disciplines, such as recreation management, National Conservation Lands, wildlife, vegetation, range management and soils, cultural and heritage resources, socioeconomics, planning and environmental coordination, and geographic information systems will be involved in this planning effort.

Additional Information

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed RMP amendment will assist the BLM in identifying and evaluating impacts to such resources.

The BLM will consult with Indian Tribal Nations on a government-to-government basis in accordance with Executive Order 13175, BLM Manual Section 1780, and other Departmental policies. Tribal concerns, including impacts on Indian trust assets and potential impacts to cultural resources, will be given due consideration. Federal, State, and local agencies, along with Indian Tribal Nations and other stakeholders that may be interested in or affected by the proposed RMP amendment that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 43 CFR 1610.2)

Raymond Suazo,
State Director.

[FR Doc. 2026-03912 Filed 2-26-26; 8:45 am]

BILLING CODE 4331-12-P